DEPARTMENT OF ENERGY

Federal Energy Regulatory Commission

[Docket No. EL06-17-000]

Wisconsin Electric Power Company, Complainant v. Midwest Independent Transmission, System Operator, Inc., Respondent; Notice of Complaint

November 4, 2005.

Take notice that on November 2, 2005, Wisconsin Electric Power Company (Wisconsin Electric), pursuant to section 206 of the Federal Power Act, 16 U.S.C. 824e, and section 206 of the Commission's Rules of Practice and Procedure, 18 CFR 385.206, filed a complaint against the Midwest Independent Transmission System Operator, Inc. (Midwest ISO) alleging that, in contravention of section 43.2 of its Transmission and Energy Markets Tariff, the Midwest ISO failed to allocate financial transmission rights sufficient to cover all of Wisconsin Electric's eligible Network Resource entitlements, resulting in the wrongful assessment of congestion charges to Wisconsin Electric.

Wisconsin Electric certifies that copies of the complaint were served on the contracts for the Midwest ISO.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible online at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. eastern time on November 22, 2005.

Magalie R. Salas,
Secretary.

[FR Doc. E5-6217 Filed 11-9-05; 8:45 am]

BILLING CODE 6717-01-P